DEPARTMENT OF AGRICULTURE

Rural Utilities Service

East Kentucky Power Cooperative; Notice of Intent To Hold Public Scoping Meetings and Prepare an Environmental Assessment

AGENCY: Rural Utilities Service, USDA.

ACTION: Notice of intent to hold public scoping meetings and prepare an environmental assessment (EA).

SUMMARY: The Rural Utilities Service, an agency which administers the U.S. Department of Agriculture's Rural Development Programs (USDA Rural Development) intends to hold public scoping meetings and prepare an environmental assessment (EA) related to possible financial assistance to East Kentucky Power Cooperative, Inc. (EKPC) of Kentucky for the proposed construction of approximately 35 miles of 345 kilovolt (kV) transmission line in Clark, Madison, and Garrard counties, KY. The proposed 345 kV transmission line project would be constructed within one of several corridors under consideration. The transmission line corridors originate at the J.K. Smith Power Station near the community of Trapp in Clark County, KY and terminate at the proposed location of a new 345 kV switching station. EKPC is requesting USDA Rural Development to provide financial assistance for the proposed project.

DATES: USDA Rural Development will conduct a scoping meeting in an open house format from 3 p.m. until 7 p.m. on Tuesday, July 11, 2006. The purpose of the meeting is to provide information and solicit comments for the preparation of an EA.

ADDRESSES: The public meeting will be held at the Best Western-Holiday Plaza located at 100 Eastern Bypass, Richmond, KY 40475; Phone: 859-623-9220.

A Macro Corridor Study will be available for public review at USDA Rural Development, Utilities Programs, 1400 Independence Avenue, SW., Washington, DC 20250-1571; at the USDA Rural Development's Web site http://www.usda.gov/rus/water/ees/ea.htm; at EKPC's headquarters office 4775 Lexington Road, Winchester, Kentucky 40391; and at the following Public Library locations:

Clark County Library, 370 South Burns Avenue, Winchester, KY 40391. (859) 744-5661. Julie Maruskin, Director.

Madison County Public Library, 507 West Main St., Richmond, KY 40475. (859) 623-6704. Sue Hays, Director.

Garrard County Public Library, 101 Lexington St, Lancaster, KY 40444. (859) 792-3424. Joan Tussey.

Written comments should be sent to: Stephanie Strength, Environmental Protection Specialist, USDA, Rural Development, Utilities Programs, Engineering and Environmental Staff, 1400 Independence Avenue, SW., Stop 1571, Washington, DC 20250-1571, or e-mail: stephanie.strength@wdc.usda.gov.

FOR FURTHER INFORMATION CONTACT: Stephanie Strength, Environmental Protection Specialist, USDA, Rural Development, Utilities Programs, Engineering and Environmental Staff, Stop 1571, 1400 Independence Avenue, SW., Washington, DC 20250-1571, telephone (202) 720-0468. Mrs. Strength's e-mail address is stephanie.strength@wdc.usda.gov.

SUPPLEMENTARY INFORMATION: EKPC proposes to construct a 345 kV transmission line between a source substation at the J.K. Smith Power Station in Clark County and a proposed switching station located near Lancaster, Kentucky. The proposed line would be constructed within one of several corridors under consideration. The proposed corridors are located in Clark, Madison, and Garrard counties. The proposed corridors extend southwesterly from the J.K. Smith Power Station near Trapp, KY. From Trapp, the corridors will extend towards the communities of Union City, Redhouse, and White Hall to the north side of Richmond. From Richmond the corridors head in the southwesterly direction near communities such as Roundhill, Kirksville, Ruthton, Teatersville, Mcreary, Nina, and Three Forks towards the proposed location of a 345kV switching station. The proposed switching station would be located west of the community of Lancaster. The transmission line would require a right-of-way of 150 feet. Depending on which route is chosen the approximate length of the transmission line would be from 35-37 miles. It is anticipated that this transmission line would be in service in late spring to early summer of 2009.

Alternatives considered by USDA Rural Development and EKPC include: (a) No action, (b) alternative transmission improvements, and (c) alternative transmission line corridors.

An Electric Alternative Evaluation and Macro Corridor Study Report, prepared by EKPC will be presented at the public scoping meeting. The Report is available for public review at the addresses provided in this notice.

Government agencies, private organizations, and the public are invited to participate in the planning and analysis of the proposed project. Representatives from USDA Rural Development and EKPC will be available at the scoping meeting to discuss USDA Rural Development's environmental review process, describe the project, the need for the project, the macro corridors under consideration, and discuss the scope of environmental issues to be considered, answer questions, and accept oral and written comments.

Questions and comments should be received by USDA Rural Development in writing by August 10, 2006 to ensure that they are considered in this environmental impact determination.

The comments received will be incorporated into the environmental analysis EKPC will submit to USDA Rural Development for review. USDA Rural Development will use the environmental analysis to determine the significance of the impacts of the project and may adopt it as its environmental assessment of the project. USDA Rural Development's environmental assessment of the project would be available for review and comment for 30 days. Should USDA Rural Development determine, based on the EA of the project, that the project would not have a significant environmental impact, it will prepare a finding of no significant impact. Public notification of a finding of no significant impact would be published in the Federal Register and in newspapers with a circulation in the project area. Any final action by USDA Rural Development related to the proposed project will be subject to, and contingent upon, compliance with environmental review requirements as prescribed by the Council on Environmental Quality and USDA Rural Development environmental policies and procedures.

Dated: June 22, 2006.
Mark S. Plank,
Director, Engineering and Environmental Staff, USDA/Rural Development/Utilities Programs.

[FR Doc. 06-5803 Filed 6-28-06; 8:45 am]

BILLING CODE 3410-15-P